DEPARTMENT OF AGRICULTURE

Submission for OMB Review; Comment Request

October 18, 2017.

The Department of Agriculture has submitted the following information collection requirement(s) to OMB for review and clearance under the Paperwork Reduction Act of 1995, Public Law 104-13. Comments are requested regarding (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by November 22, 2017 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Assessing the Child Nutrition State Administrative Expense Allocation Formula.

OMB Control Number: 0584 New.

Summary of Collection: USDA's Food and Nutrition Service (FNS) administers Child Nutrition Programs (CNP) that provide healthy food to children including the National School Lunch Program, School Breakfast Program, Child and Adult Care Food Program, Special Milk Program, and the Food Distribution Program for schools. State agencies are responsible for oversight and administration of the CNPs, including monitoring program operations and distributing Federal cash reimbursements and USDA Foods. CNPs are operated by a variety of local public and private providers that enter into agreements with State agencies, including school food authorities, local government agencies, nonprofit sponsoring organizations, child care centers, and adult care centers, among others. States receive Child Nutrition State Administrative Expense (SAE) funds from the Federal government to help cover their administrative costs. SAE funds are appropriated annually to USDA FNS under the authority of Section 7(a) of the Child Nutrition Act of 1966. The Act sets forth the total amount of funds available for SAE and a formula for allocating the majority of the funds to States—commonly referred to as the “nondiscretionary” allocation. It also provides USDA with authority to decide how to allocate remaining funds, i.e., the “discretionary” allocation. FNS is conducting the study to assess the effectiveness of the current formula used for SAE allocations.

Need and Use of the Information: The data will be used to assess the effectiveness of the current SAE allocation formula, identify and examine factors that influence State spending, and develop and test a range of possible alternatives to improve the SAE allocation formula.

Description of Respondents: State, Local, or Tribal Government.

Number of Respondents: 88.

Frequency of Responses: Reporting: One-time.

Total Burden Hours: 228.

Ruth Brown,
Departmental Information Collection Clearance Officer.

[FR Doc. 2017-22925 Filed 10-20-17; 8:45 am]

BILLING CODE 3410-30-P